DEPARTMENT OF TRANSPORTATION

Federal Aviation Administration

Eleventh Meeting: RTCA Special Committee 216: Aeronautical Systems Security

AGENCY: Federal Aviation Administration (FAA), DOT.

ACTION: Notice of RTCA Special Committee 216: Aeronautical Systems Security meeting.

SUMMARY: The FAA is issuing this notice to advise the public of a meeting of RTCA Special Committee 216: Aeronautical Systems Security.

DATES: The meeting will be held November 18-19, 2009 from 9 a.m. to 5 p.m. and November 20, 2009 from 9 a.m. to 12 p.m. Foreign nationals planning to attend should register one week in advance and contact RTCA for SC-216 registration details.

Note: Foreign nationals will need to provide (Daniel.p.johnson@honeywell.com) with the following information at least one week prior to the meeting:

• First Name.

• Last Name.

• Company Name.

• Address of their Company.

• Phone Number.

• Honeywell EID (if applicable)—this can be left blank.

• Citizenship.

• Green Card, Asylee/Refugee number (only if they have one).

• Passport Number.

• Passport Expiration Date.

• VISA Number (only if they have one).

• VISA Type (only if they have one).

• VISA Expiration Date (only if they have one).

• Age (enter only if under the age of 18).

• Did this guest work directly for Honeywell in the past as an employee? Answer “Yes” or “No.”

• Does this guest work in a sales capacity for their company? Answer “Yes” or “No.”

ADDRESSES: The meeting will be held at Honeywell Aerospace Deer Valley Facility, 21111 N. 19th Avenue, Phoenix, AZ. Check-in at Visitor's Entrance, you will be directed from there.

FOR FURTHER INFORMATION CONTACT: RTCA Secretariat, 1828 L Street, NW., Suite 805, Washington, DC, 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 216/Aeronautical Systems Security meeting. The agenda will include:

• Welcome/Introductions/Administrative Remarks.

• Agenda Overview and Approval of the Summary of the 10th meeting held September 1, 2009, (RTCA Paper No. 213-09/SC216-021).

• Report on the PMC/ICC action on TOR.

• EUROCAE WG-72 Report.

• Subgroup and Action Item Reports.

• Subgroup Meetings/Break-outs.

• Subgroup Reports on Break-outs.

• Establish Dates, Location, and Agenda for Next Meeting(s).

• Any Other Business.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on October 14, 2009.
Meredith Gibbs,
Staff Specialist, RTCA Advisory Committee.

[FR Doc. E9-25497 Filed 10-22-09; 8:45 am]

BILLING CODE 4910-13-P